DEPARTMENT OF LABOR

Employment and Training Administration

[TA-W-91,218]

Mesabi Radial Tire Company, 1801 5th Avenue East, Hibbing, Minnesota; Notice of Affirmative Determination Regarding Application for Reconsideration

By application dated January 29, 2016, the state workforce office requested administrative reconsideration of the negative determination regarding workers' eligibility to apply for worker adjustment assistance applicable to workers and former workers of Mesabi Radial Tire Company, 1801 5th Avenue East, Hibbing, Minnesota. The determination was issued on January 12, 2016.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that imports did not increase, and that the workers' firm does not import wholesale or repair services. Further, the firm did not shift the supply of wholesale or repair services or like or directly competitive services to a foreign country or acquire wholesale or repair services or like or directly competitive services from a foreign country. Further, the firm is not a Supplier to a firm that employed a group of workers who received a certification of eligibility under Section 222(a) of the Act, 19 U.S.C. 2272(a). The services supplied by the workers firm were not used in the production of an article, iron ore. The services supplied were used within the tools/equipment used to mine for ore. Finally, the firm does not act as a Downstream Producer to a firm that employed a group of workers who received a certification of eligibility under Section 222(a) of the Act, 19 U.S.C. 2272(a). The workers' firm was not engaged in value-added finishing processes used in the production of an article or supply of a service.

The request for reconsideration states that this determination is erroneous and that the subject firm should be considered to be a downstream supplier because without their products steel cannot be manufactured. The request also included additional information relating to this statement.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 15th day of July, 2016.
Jessica R. Webster,
Certifying Officer, Office of Trade Adjustment Assistance.

[FR Doc. 2016-20049 Filed 8-22-16; 8:45 am]

BILLING CODE P